DEPARTMENT OF THE INTERIOR

National Park Service

Notice of Inventory Completion: Nebraska State Historical Society, Lincoln, NE

AGENCY: National Park Service, Interior.

ACTION: Notice.

Notice is here given in accordance with the Native American Graves Protection and Repatriation Act (NAGPRA), 25 U.S.C. 3003, of the completion of an inventory of human remains and associated funerary objects in the possession of Nebraska State Historical Society, Lincoln, NE. The human remains and cultural items were removed from the Oacama site, Lyman County, SD.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Nebraska State Historical Society professional staff in consultation with representatives of the Three Affiliated Tribes of the Fort Berthold Reservation, North Dakota.

In 1951 and 1952, human remains representing a minimum of three individuals were removed from the Oacama site, Lyman County, SD, by Dr. Martin Kivett of the Nebraska State Historical Society. The site was on land that was probably private at the time that it was excavated. No known individuals were identified. The four associated funerary objects are two animal bones and two fragments of burned earth.

The Oacama site was excavated by Dr. Kivett in 1951 and 1952. The investigation was completed in association with the Smithsonian River Basin Survey in the area of Chamberlain, SD. Oacama is a postcontact earthlodge village, which Dr. Kivett believes dates to the period A.D. 1675-1725 (unpublished manuscript on file, Nebraska State Historical Society, 1958), and is most likely an Arikara village. The pottery recovered in association with the human remains is typical of that made by the Arikara, who occupied a number of villages in this area during the postcontact period. Cranial morphology also supports affiliation to the Arikara. The simple-stamped pottery noted by Dr. Kivett has not been located. The Arikara are today represented by the Three Affiliated Tribes of the Fort Berthold Reservation, North Dakota

Officials of the Nebraska State Historical Society have determined that, pursuant to 25 U.S.C. 3001 (9-10), the human remains described above represent the physical remains of three individuals of Native American ancestry. Officials of the Nebraska State Historical Society also have determined that, pursuant to 25 U.S.C. 3001 (3)(A), the four objects described above are reasonably believed to have been placed with or near individual human remains at the time of death or later as part of the death rite or ceremony. Lastly, officials of the Nebraska State Historical Society have determined that, pursuant to 25 U.S.C. 3001 (2), there is a relationship of shared group identity that can be reasonably traced between the Native American human remains and associated funerary objects and the Three Affiliated Tribes of the Fort Berthold Reservation, North Dakota.

Representatives of any other Indian tribe that believes itself to be culturally affiliated with the human remains and associated funerary objects should contact Rob Bozell, Associate Director, Nebraska State Historical Society, 1500 R Street, P.O. Box 82554, Lincoln, NE 68501-2554, telephone 402-471-4789, before January 21, 2005. Repatriation of the human remains and associated funerary objects to the Three Affiliated Tribes of the Fort Berthold Reservation, North Dakota may proceed after that date if no additional claimants come forward.

The Nebraska State Historical Society is responsible for notifying Three Affiliated Tribes of the Fort Berthold Reservation, North Dakota that this notice has been published.

Dated: November 3, 2004
Sherry Hutt, Manager
National NAGPRA Program.

[FR Doc. 04-28003 Filed 12-21-04; 8:45 am]

BILLING CODE 4312-50-S